DEPARTMENT OF TRANSPORTATION

Surface Transportation Board

[Section 5a Application No. 61 (Sub-No. 6)]

National Classification Committee—Agreement

AGENCY: Surface Transportation Board.

ACTION: Request for proposals and comments.

SUMMARY: The Surface Transportation Board (Board) seeks suggested methodologies for increasing shipper participation in the classification process, as required by the Board's decisions in National Classification Committee—Agreement, Section 5a Application No. 61 (STB served Dec. 18, 1998, and February 11, 2000).

DATES: Opening proposals and comments are due April 11, 2000. Reply comments are due May 11, 2000. Rebuttals are due June 12, 2000.¹

¹ Arguing that the instant proceeding is essentially an investigation, NCC has filed a motion, to which replies were filed by The National Industrial Transportation League and by the Health and Personal Care Distribution Conference, Inc. and National Small Shipments Traffic Conference, Inc., asking for a procedural schedule under which it will be permitted to open and close the record. We understand why NCC might want to open and close in order to seek to limit the debate to whatever proposal it decides to file at the outset. But we have already held extensive proceedings, in which NCC has made several filings, and in which we have already determined that NCC's procedures should be modified. As a result, we believe that parties in addition to NCC should have an opportunity to present their proposals as an initial matter. We are, however, providing all parties with an opportunity to respond to any initial proposals or comments made, and we are providing each party that makes an initial filing with a further opportunity to present rebuttal evidence and argument in response to any comments addressing its initial filing.

ADDRESSES: Send an original and 10 copies of proposals, comments, and replies, referring to “Section 5a Application No. 61 (Sub-No. 6)” to: Surface Transportation Board, Office of the Secretary, Case Control Unit, 1925 K Street, N.W., Washington, DC 20423.

FOR FURTHER INFORMATION CONTACT: Joseph H. Dettmar, (202) 565-1600. [TDD for the hearing impaired: 1-800-877-8339.]

SUPPLEMENTARY INFORMATION: Additional information is contained in the Board's decisions, which are available on the Board’s website at “WWW.STB.DOT.GOV”.

Decided: February 4, 2000.
By the Board, Chairman Morgan, Vice Chairman Burkes, and Commissioner Clyburn.
Vernon A. Williams,
Secretary.

[FR Doc. 00-3239 Filed 2-10-00; 8:45 am]

BILLING CODE 4915-00-P